OFFICE OF THE UNITED STATES TRADE REPRESENTATIVE

Reallocation of Unused Fiscal Year 2019 Tariff-Rate Quota Volume for Raw Cane Sugar

AGENCY: Office of the United States Trade Representative.

ACTION: Notice.

SUMMARY: The Office of the United States Trade Representative (USTR) is providing notice of country-by-country reallocations of the fiscal year (FY) 2019 in-quota quantity of the World Trade Organization (WTO) tariff-rate quota (TRQ) for imported raw cane sugar.

DATES: This notice is applicable on June 25, 2019.

FOR FURTHER INFORMATION CONTACT: Dylan Daniels, Office of Agricultural Affairs at 202-395-6095 or Dylan.T.Daniels@ustr.eop.gov.

SUPPLEMENTARY INFORMATION: Pursuant to Additional U.S. Note 5 to Chapter 17 of the Harmonized Tariff Schedule of the United States (HTSUS), the United States maintains WTO TRQs for imports of raw cane and refined sugar. Section 404(d)(3) of the Uruguay Round Agreements Act (19 U.S.C. 3601(d)(3)) authorizes the President to allocate the in-quota quantity of a TRQ for any agricultural product among supplying countries or customs areas. The President delegated this authority to the United States Trade Representative under Presidential Proclamation 6763 (60 FR 1007).

On June 29, 2018, the Secretary of Agriculture established the FY 2019 TRQ for imported raw cane sugar at the minimum to which the United States committed to pursuant to the World Trade Organization Uruguay Round Agreements (1,117,195 metric tons raw value (MTRV)). On July 18, 2018, USTR provided notice of country-by-country allocations of the FY 2019 in-quota quantity of the WTO TRQ for imported raw cane sugar. Based on consultation with quota holders, USTR has determined to reallocate 100,071 MTRV of the original TRQ quantity from those countries that have stated they do not plan to fill their FY 2019 allocated raw cane sugar quantities. USTR is allocating the 100,071 MTRV to the following countries in the amounts specified below:

Country | FY 2019 raw sugar unused reallocation (MTRV)
Argentina | 6,662
Australia | 12,859
Barbados | 300
Belize | 1,704
Bolivia | 1,239
Brazil | 22,464
Colombia | 3,718
Costa Rica | 2,324
El Salvador | 4,028
Fiji | 1,394
Guatemala | 7,437
Guyana | 1,859
Honduras | 1,549
India | 1,239
Jamaica | 1,704
Malawi | 1,549
Mauritius | 1,859
Mozambique | 2,014
Nicaragua | 3,254
Panama | 4,493
Peru | 6,352
South Africa | 3,563
Swaziland | 2,479
Thailand | 2,169
Zimbabwe | 1,859

USTR based these allocations on the countries' historical shipments to the United States. The allocations of the raw cane sugar WTO TRQ to countries that are net importers of sugar are conditioned on receipt of the appropriate verifications of origin and certificates for quota eligibility must accompany imports from any country for which an allocation has been provided.

Conversion factor: 1 metric ton = 1.10231125 short tons.

Gregory Doud,
Chief Agricultural Negotiator, Office of the United States Trade Representative.

[FR Doc. 2019-13415 Filed 6-24-19; 8:45 am]

BILLING CODE 3290-F9-P